DEPARTMENT OF ENERGY

[Number DE-PS07-02ID14407]

Emerging Technology Deployment for the Chemical and Petroleum Industry Solicitation

AGENCY: Idaho Operations Office, DOE.

ACTION: Notice of availability of financial assistance solicitation.

SUMMARY: The U.S. Department of Energy (DOE) Idaho Operations Office (ID) is soliciting proposals for the installation and field-testing of technologies to reduce energy consumption, enhance economic competitiveness, and reduce environmental impacts, specifically in the Petroleum Refining and Chemicals industrial sectors. The objective of the solicitation is to find ways to mitigate the risk to industries of accepting and using emerging technologies developed by the industry initiatives. It is not the intent of DOE-ID to solicit research and development projects.

DATES: The issuance date of Solicitation Number DE-PS07-02ID14407 will be on August 20, 2002. The deadline for receipt of applications will be approximately on November 22, 2002.

ADDRESSES: The solicitation in its full text will be available on the Internet at the following URL address: http://e-center.doe.gov. The Industry Interactive Procurement System (IIPS) provides the medium for disseminating solicitations, receiving financial assistance applications and evaluating the applications in a paperless environment. Completed applications are required to be submitted via IIPS. An IIPS “User Guide for Contractors” can be obtained on the IIPS Homepage and then clicking on the “Help” button. Questions regarding the operation of IIPS may be e-mailed to the IIPS Help Desk at IIPS_HelpDesk@e-center.doe.gov.

FOR FURTHER INFORMATION CONTACT: Layne Isom, Contract Specialist, (208) 526-5633 isomla@id.doe.gov.

SUPPLEMENTARY INFORMATION: This solicitation is commissioned on behalf of the DOE's Office of Industrial Technologies (OIT) Best Practices Program, which develops and provides energy-saving products, services, and technologies to industry. Additional information about the Best Practices Program can be found on the Web site http://www.oit.doe.gov/bestpractices.

DOE anticipates making 3 to 10 cooperative agreement awards with total estimated DOE funding ranging from $3 to 10 million dollars, depending on final funding levels and the quality of proposals received. No individual awards will exceed $1 million dollars or a timeframe of three years. The cooperative agreements will be awarded in accordance with DOE Financial Assistance Regulations of Title 10 of the Code of Federal Regulations, Chapter II, Subchapter H, Part 600. Award of a cooperative agreement under this solicitation does not commit the Government to fund any follow-on activities. Successful applicants will be required to submit quarterly, annual, and final reports to DOE and attend annual program review meetings. Applicants who are selected will cost-share a minimum of 50% of the project total cost. The statutory authority for the program is the Federal Non-Nuclear Energy Research and Development Act of 1974 (Pub. L. 93-577). The Catalog of Federal Domestic Assistance (CFDA) Number for this program is 81.086, Conservation Research and Development.

Issued in Idaho Falls on August 20, 2002.
R. J. Hoyles,
Director, Procurement Services Division.

[FR Doc. 02-21741 Filed 8-26-02; 8:45 am]

BILLING CODE 6450-01-P